DEPARTMENT OF TRANSPORTATION

Office of the Secretary

Notice of Applications for Certificates of Public Convenience and Necessity and Foreign Air Carrier Permits Filed Under Subpart B (formerly subpart Q) During the Week Ending October 18, 2002

The following applications for certificates of public convenience and necessity and foreign air carrier permits were filed under subpart B (formerly subpart Q) of the Department of Transportation's Procedural Regulations (See 14 CFR 301.201 et seq.). The due date for answers, conforming applications, or motions to modify scope are set forth below for each application. Following the answer period DOT may process the application by expedited procedures. Such procedures may consist of the adoption of a show-cause order, a tentative order, or in appropriate cases a final order without further proceedings.

Docket Number: OST-1999-6319.

Date Filed: October 16, 2002.

Due Date for Answers, Conforming Applications, or Motion to Modify Scope: November 6, 2002.

Description: Application of Northwest Airlines, Inc., pursuant to 49 U.S.C. section 41102 and subpart B, requesting to amend its experimental certificate of public convenience and necessity for Route 564 (U.S.-Mexico) to incorporate authority for service between Memphis and Mexico City, Memphis and Puerto Vallarta, and Detroit and Cozumel. Northwest also requests that the Department integrate this authority with all of Northwest's existing certificate and exemption authority to the extent consistent with U.S. bilateral agreements and DOT policy.

Dorothy Y. Beard,
Federal Register Liaison.

[FR Doc. 02-27385 Filed 10-25-02; 8:45 am]

BILLING CODE 4910-62-P